DEPARTMENT OF ENERGY

Federal Energy Regulatory Commission

Combined Notice of Filings #1

Take notice that the Commission received the following electric corporate filings:

Docket Numbers: EC17-115-000.

Applicants: Mosaic Fertilizer, LLC.

Description: Application of Mosaic Fertilizer, LLC For Authorization under Federal Power Act Section 203.

Filed Date: 5/11/17.

Accession Number: 20170511-5191.

Comments Due: 5 p.m. ET 6/1/17.

Take notice that the Commission received the following electric rate filings:

Docket Numbers: ER11-4050-005.

Applicants: Cogentrix of Alamosa, LLC.

Description: Notice of non-material change in status of Cogentrix of Alamosa, LLC.

Filed Date: 5/11/17.

Accession Number: 20170511-5192.

Comments Due: 5 p.m. ET 6/1/17.

Docket Numbers: ER17-157-002.

Applicants: Moapa Southern Paiute Solar, LLC.

Description: Notice of Non-Material Change in Status of Moapa Southern Paiute Solar, LLC.

Filed Date: 5/11/17.

Accession Number: 20170511-5193.

Comments Due: 5 p.m. ET 6/1/17.

Docket Numbers: ER17-927-002.

Applicants: Wisconsin Public Service Corporation.

Description: Tariff Amendment: Second Amendment to Assignment—Ancillary Services & Wholesale Dist. Agmt. to be effective 2/4/2017.

Filed Date: 5/12/17.

Accession Number: 20170512-5051.

Comments Due: 5 p.m. ET 6/2/17.

Docket Numbers: ER17-1002-001.

Applicants: Optimum Power Investments, LLC.

Description: Tariff Amendment: Deficiency to 1 to be effective 3/31/2017.

Filed Date: 5/11/17.

Accession Number: 20170511-5179.

Comments Due: 5 p.m. ET 6/1/17.

Docket Numbers: ER17-1191-001.

Applicants: Otter Tail Power Company.

Description: Tariff Amendment: Amendment to Extend Time for Action to be effective 7/30/2010.

Filed Date: 5/11/17.

Accession Number: 20170511-5184.

Comments Due: 5 p.m. ET 6/1/17.

Docket Numbers: ER17-1192-001.

Applicants: Otter Tail Power Company.

Description: Tariff Amendment: Amendment to Extend Time for Action to be effective 7/30/2010.

Filed Date: 5/11/17.

Accession Number: 20170511-5183.

Comments Due: 5 p.m. ET 6/1/17.

Docket Numbers: ER17-1583-000.

Applicants: PacifiCorp.

Description: Tariff Cancellation: Termination of Tri-State E&P Agreement Monolith Tap to be effective 7/24/2017.

Filed Date: 5/11/17.

Accession Number: 20170511-5181.

Comments Due: 5 p.m. ET 6/1/17.

Docket Numbers: ER17-1584-000.

Applicants: PacifiCorp.

Description: § 205(d) Rate Filing: UAMPS Price Construction Agmt to be effective 7/12/2017.

Filed Date: 5/11/17.

Accession Number: 20170511-5182.

Comments Due: 5 p.m. ET 6/1/17.

Docket Numbers: ER17-1585-000.

Applicants: Southwest Power Pool, Inc.

Description: § 205(d) Rate Filing: 3324 KPP/Sunflower Meter Agent Agr; Cancellation of 2826R1 to be effective 6/30/2017.

Filed Date: 5/12/17.

Accession Number: 20170512-5032.

Comments Due: 5 p.m. ET 6/2/17.

Docket Numbers: ER17-1586-000.

Applicants: PJM Interconnection, L.L.C.

Description: § 205(d) Rate Filing: Clean-up of OATT, Sch. 12-Appx A (NTD)—removes Transource baseline upgrades to be effective 11/30/2016.

Filed Date: 5/12/17.

Accession Number: 20170512-5048.

Comments Due: 5 p.m. ET 6/2/17.

Docket Numbers: ER17-1587-000.

Applicants: PJM Interconnection, L.L.C.

Description: § 205(d) Rate Filing: Original WMPA, Service Agreement No. 4699, Queue No. AB1-065 to be effective 4/13/2017.

Filed Date: 5/12/17.

Accession Number: 20170512-5054.

Comments Due: 5 p.m. ET 6/2/17.

Docket Numbers: ER17-1588-000.

Applicants: Northern Indiana Public Service Company.

Description: § 205(d) Rate Filing: WVPA IA Supplement to be effective 5/18/2017.

Filed Date: 5/12/17.

Accession Number: 20170512-5055.

Comments Due: 5 p.m. ET 6/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2017.
Kimberly D. Bose,
Secretary.

[FR Doc. 2017-10123 Filed 5-18-17; 8:45 am]

BILLING CODE 6717-01-P